DEPARTMENT OF ENERGY

Federal Energy Regulatory Commission

[Project No.: 2677-019]

City of Kaukauna, WI; Notice of Application Tendered for Filing With the Commission, Soliciting Additional Study Requests, and Establishing Procedural Schedule for Relicensing and a Deadline for Submission of Final Amendments

September 12, 2007.

Take notice that the following hydroelectric application has been filed with the Commission and is available for public inspection.

a. Type of Application: New Major License.

b. Project No.: 2677-019.

c. Date Filed: August 29, 2007.

d. Applicant: City of Kaukauna, Wisconsin.

e. Name of Project: Badger-Rapide Croche Hydroelectric Project.

f. Location: On the Fox River in Outagamie County, near the city of Kaukauna, Wisconsin. The project does not affect federal lands.

g. Filed Pursuant to: Federal Power Act 16 U.S.C. 791(a)-825(r).

h. Applicant Contact: Mike Pedersen, Kaukauna Utilities, 777 Island Street, P.O. Box 1777, Kaukauna, WI 54130-7077, 920-462-0220, or Arie DeWaal, Mead & Hunt, Inc., 6501 Watts Road, Madison, WI 53719, 608-273-6380.

i. FERC Contact: John Smith (202) 502-8972 or john.smith@ferc.gov.

j. Cooperating Agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 29, 2007.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The existing project works consists of the following two developments:

The existing Badger Development utilizes the head created by the 22-foot-high Army Corps of Engineers (Corps) Kaukauna dam and consists of: (1) A 2,100-foot-long, 100-foot-wide power canal that bifurcates into a 260-foot-long, 200-foot-wide canal and a 250-foot-long, 80-foot-wide canal leading to; (2) the Old Badger powerhouse containing two 1,000-kilowatt (kW) generating units for a total installed capacity of 2,000 kW; and (3) the New Badger powerhouse containing two 1,800-kilowatt (kW) generating units for a total installed capacity of 3,600 kW; and (4) appurtenant facilities.

The existing Rapide Croche Development utilizes the head created by the 20-foot-high Corps Rapide Croche dam, located approximately 4.5 miles downstream from the Badger Development and consists of: (1) A powerhouse, located on the south end of the dam, containing four 600-kW generating units for a total installed capacity of 2,400 kW; (2) the 5-mile-long, 12-kV transmission line; and (3) appurtenant facilities.

The proposed project would include decommissioning the Old Badger and New Badger plants and constructing a new 7-MW powerhouse about 150 feet upstream from the existing New Badger plant site. Proposed project works would consist of: (1) A modified power canal leading to; (2) a new powerhouse with integral intake; and (3) two identical 3.5-to 3.6-MW horizontal Kaplan “S” type turbines. The Old Badger development would be converted to an alternative use. The New Badger development would be decommissioned, demolished, and removed. The existing service road would be demolished and removed. The tailrace area associated with the existing Old Badger development would be filled with soil. A new service road would be constructed over the filled area. No significant changes are proposed for the Rapide Croche development.

The existing Badger and Rapide Croche developments currently operate in run-of-river mode and as proposed, the new project would continue to operate in a run-of-river mode.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Wisconsin State Historic Preservation Officer (SHPO), as required by 106, National Historic Preservation Act, and the regulations of the Advisory Council on Historic Preservation, 36 CFR at 800.4.

q. Procedural schedule and final amendments: The application will be processed according to the following Hydro Licensing Schedule. Revisions to the schedule will be made as appropriate. The Commission staff proposes to issue one environmental assessment (EA) rather than issue a draft and a final EA. Comments, terms and conditions, recommendations, prescriptions, and reply comments, if any, will be addressed in an EA. Staff intends to give at least 30 days for entities to comment on the EA, and will take into consideration all comments received on the EA before final action is taken on the license application. A more detailed processing schedule will be included in the next notice issued for this project.

Final amendments to the application must be filed with the Commission no later than 30 days from the issuance date of the notice of ready for environmental analysis.

Kimberly D. Bose,
Secretary.

[FR Doc. E7-18438 Filed 9-18-07; 8:45 am]

BILLING CODE 6717-01-P